DEPARTMENT OF HEALTH AND HUMAN SERVICES

Health Resources and Services Administration

Maternal Child Health Bureau, Healthy Start Eliminating Disparities in Perinatal Health

AGENCY: Health Resources and Services Administration (HRSA), U.S. Department of Health and Human Services.

ACTION: Notice of Non-competitive Supplemental Funding to Northern Manhattan Perinatal Partnership.

SUMMARY: The Health Resources and Services Administration (HRSA) is issuing non-competitive supplemental funding under the Maternal Child Health Bureau, Healthy Start Eliminating Disparities in Perinatal Health program to ensure that the Northern Manhattan Perinatal Partnership (NMPP), the primary provider of prenatal services in Central Harlem, can continue to provide much needed services to help stem the rise in and ultimately reduce the Infant Mortality Rate (IMR) in the affected service area.

SUPPLEMENTARY INFORMATION: Intended Recipient of the Award: Northern Manhattan Perinatal Partnership.

Amount of the Non-Competitive Supplemental Funding: $510, 417.

Project Period: The original project period for this grant is through May 31, 2009.

Period of Supplemental Support: June 1, 2009 through January 31, 2010.

Authority: This activity is under the authority of the Public Health Service Act, Section 33OH.

Catalogue of Federal Domestic Assistance Number: 93.926.

Justication for Non-Competitive Supplemental Funding

Northern Manhattan Perinatal Partnership (NMPP), known as Central Harlem Healthy Start, has historically been the primary provider of prenatal services in Central Harlem and has been highly effective in reducing the high rate of infant morality (IMR) in that project/service area. As a consequence of NMPP's leadership and collaborated efforts with other providers in the community, the IMR has declined significantly in Central Harlem since the initiation of the project in 1990 when it was 27.7 infant deaths per 1,000 live births. By 2001, the IMR had dropped to 13.1 infant deaths per 1,000 live births, 54% less than the 1990 rate. The IMR in Central Harlem from 2002 to 2004 showed a decline from the previous years; however, there were fluctuations in the rate of decline in the community. The IMR was at a low of 6.2% in 2002 and increased to 7.3% in 2003, and then in 2004, decreased to 5.1%. The apparent trend in the following two years saw a steady increase to 7.4% for 2005 and 11.2% for 2006. An additional indicator of this trend is the escalating IMR for teen births which saw an increase in the 3 year average from 2002-2004 of 5.93% increase to 12.54% for 2005-2007.

The reduction in the earlier years IMR (2002-2004) for Central Harlem made them ineligible for the FY 2009 Healthy Start Eliminating Disparities Open competition. To be eligible, the IMR for the service area had to be 1.5 times the national average for the period of 2002-2004 or 10.35. In FY 2010 there will be another Healthy Start Eliminating Disparities Open competition and grantees will be required to the use the most recently available IMR data (2004-2006 or 2005-2007) to compete. To be eligible for the competition, grantees will have to have an IMR that is 1.5 times the national average for the project area for either 2004-2006 or 2005-2007. Data supplied the New York City Bureau Statistics indicates that Central Harlem would be eligible for this competition because they have 12.54% IMR for teen births for 2005-2007.

The award of non-competitive supplemental funding will enable NMPP to provide much need services in Central Harlem. Given the current economic situation and the rising IMR rate in the project area, the loss of this experienced provider of health services would be devastating and would contribute to the rise in infant deaths in Central Harlem, NMPP is the primary provider of comprehensive community-based perinatal services and the only Healthy Start site serving the project area. The project's dedication and commitment to the residents of Harlem since 1999 could not be replaced another community based provider.

FOR FURTHER INFORMATION CONTACT: John McGovern, Public Health Analyst, Division of Healthy Start and Perinatal Services, Maternal and Child Health Bureau, HRSA, Room 18-12, Parklawn Building, 5600 Fishers Lane, Rockville, MD 20857; phone 301-443-5805; E-mail jmcgovern@hrsa.gov.

Dated: May 29, 2009.
Mary K. Wakefield,
Administrator.

[FR Doc. E9-13279 Filed 6-5-09; 8:45 am]

BILLING CODE 4165-15-P